DEPARTMENT OF LABOR

Employment and Training Administration

[TA-W-64,326]

Archway Cookies, LLC; Ashland, OH; Notice of Termination of Investigation

Pursuant to Section 221 of the Trade Act of 1974, as amended, an investigation was initiated on October 27, 2008 in response to a petition filed on behalf of workers and former workers of Ashland Cookies, LLC, Ashland, Ohio.

The petitioning workers have requested that the petition be withdrawn. Consequently, the investigation has been terminated.

Signed at Washington, DC, this 18th day of March 2009.
Elliott S. Kushner,
Certifying Officer, Division of Trade Adjustment Assistance.

[FR Doc. E9-7122 Filed 3-30-09; 8:45 am]

BILLING CODE 4510-FN-P